LEGAL SERVICES CORPORATION

Sunshine Act Meeting of the Board of Directors; Amended Notice, Correction of Meeting Date

Notice: This notice serves to correct the date of a previously announced meeting of the Legal Services Corporation (LSC) Board of Directors. The notice of this meeting was posted for public inspection by the Federal Register on Wednesday, November 15, 2006. The correct meeting date is Monday, November 27, 2006. There are no other changes.

Time and Date: The Board of Directors of the Legal Services Corporation will meet on November 27, 2006 via conference call. The meeting will begin at 2 p.m. (EST), and continue until conclusion of the Board's agenda.

Location: 3333 K Street, N.W., Washington, DC 20007, 3rd Floor Conference Center.

Status Of Meeting: Open. Directors will participate by telephone conference in such a manner as to enable interested members of the public to hear and identify all persons participating in the meeting. Members of the public wishing to observe the meeting may do so by joining participating staff at the location indicated above. Members of the public wishing to listen to the meeting by telephone may obtain call-in information by calling LSC's FOIA Information line at (202) 295-1629.

Matters to be Considered: 1. Approval of the agenda.

2. Consider and act on Board of Directors' response to the Inspector General's Semiannual Report to Congress for the period of April 1, 2006 through September 30, 2006.

3. Consider and act on other business.

4. Public comment.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

November 17, 2006.
Victor M. Fortuno,
Vice President, General Counsel, & Corporate Secretary.

[FR Doc. 06-9347 Filed 11-17-06; 1:49 pm]

BILLING CODE 7050-01-P